DEPARTMENT OF TRANSPORTATION

National Highway Traffic Safety Administration

49 CFR Part 571

[Docket No. NHTSA-2003-15715; Notice 2]

RIN 2127-AH73

Federal Motor Vehicle Safety Standards; Occupant Crash Protection

AGENCY: National Highway Traffic Safety Administration (NHTSA), Department of Transportation (DOT).

ACTION: Extension of comment period.

SUMMARY: NHTSA received a letter asking us to extend the comment period for our request for comments notice regarding frontal offset testing. The notice intended to inform the public about recent testing the agency has conducted in consideration of whether to propose a high speed frontal offset crash test requirement. To provide interested persons additional time to prepare comments, we are extending the end of the comment period from April 5, 2004 to July 5, 2004.

DATES: Comments must be received by July 5, 2004.

ADDRESSES: You may submit comments (identified by the docket number set forth above) by any of the following methods:

• Federal eRulemaking Portal: http://www.regulations.gov. Follow the instructions for submitting comments.

• Web Site: http://dms.dot.gov. Follow the instructions for submitting comments on the DOT electronic docket site. Please note, if you are submitting petitions electronically as a PDF (Adobe) file, we ask that the documents submitted be scanned using Optical Character Recognition (OCR) process, thus allowing the agency to search and copy certain portions of your submissions.¹

¹ Optical character recognition (OCR) is the process of converting an image of text, such as a scanned paper document or electronic fax file, into computer-editable text.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. to 5 p.m., Monday through Friday, except Federal holidays.

Instructions: All submissions must include the agency name and docket number or Regulatory Identification Number (RIN) for this rulemaking. All comments received will be posted without change to http://dms.dot.gov, including any personal information provided. For detailed instructions on submitting comments and additional information on the rulemaking process, see the Privacy Act heading of the SUPPLEMENTARY INFORMATION section of this document.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT:

The following persons at the National Highway Traffic Safety Administration, 400 Seventh Street, SW., Washington, DC 20590 can be contacted.

For non-legal issues: Mr. John Lee, Office of Crashworthiness Standards, NVS-112. Telephone: (202) 366-2264. Fax: (202) 493-2739. Electronic mail: jlee@nhtsa.dot.gov.

For legal issues: Rebecca MacPherson, Office of the Chief Counsel, NCC-112. Telephone: (202) 366-2992. Fax: (202) 366-3820.

SUPPLEMENTARY INFORMATION: On February 3, 2004, NHTSA published in the Federal Register (69 FR 5108) a request for comments notice regarding frontal offset testing. The notice intended to inform the public about recent testing the agency has conducted in consideration of whether to propose a fixed offset deformable barrier crash test in Federal Motor Vehicle Safety Standard (FMVSS) No. 208, “Occupant crash protection,” for improving frontal crash protection. In fiscal year 1997, the U.S. House of Representatives directed the National Highway Traffic Safety Administration (NHTSA) to work toward “establishing a federal motor vehicle safety standard for frontal offset crash testing.” Since then, frontal offset crash tests have been adopted for New Car Assessment Programs in several countries worldwide. Additionally, in the U.S., the Insurance Institute for Highway Safety began a consumer crashworthiness ratings program in 1995 that included a fixed offset deformable barrier crash test.

Based on the agency's testing as of January 2004, we preliminarily determined in the February notice that the benefits from such a crash test could lead to an annual reduction in approximately 1,300 to 8,000 MAIS 2+ lower extremity injuries. NHTSA also conducted vehicle-to-vehicle crash tests to investigate the potential for disbenefits from a fixed offset deformable barrier crash test requirement. The testing demonstrated that, for some sport utility vehicles, design changes that improved their performance in high speed frontal offset crash tests may also result in adverse effects on the occupants of their collision partners. The agency requested comments on additional tests the agency planned to conduct to further evaluate the potential disbenefits, and posed some alternative strategies that could be coupled with a frontal offset crash test requirement. We established a comment closing date of April 5, 2004.

On March 19, 2004, the Alliance of Automobile Manufacturers (Alliance) requested a 90-day extension of the comment period, to July 5, 2004. The Alliance noted that NHTSA has not placed its preliminary safety benefits analysis and complete submission of crash test data in the public docket. For that reason, it stated that the public cannot address these issues. The Alliance further stated that the public should have an adequate period of time to comment after these analyses have been submitted to the docket. It stated that these actions cannot occur within the currently specified 60-day comment period.

The Alliance also stated that its member companies would like to provide the agency with additional data and analyses on issues discussed in the request for comments notice. Specifically, the Alliance discussed reviewing field data on the causes and sources of lower-extremity injuries, gathering and evaluating manufacturer crash test and dummy lower-extremity injury data, and evaluating existing crash test alternatives to the fixed offset deformable barrier tests to assess both lower extremity safety benefits and potential crash compatibility safety disbenefits. The Alliance stated that it requires an additional 90 days to compile and analyze this information.

After considering the Alliance's request, we have decided that it would be in the public's interest to extend the comment period to obtain as much data as possible. The Alliance may provide additional tests and analyses to better understand the issues cited in the request for comments notice. There is also a public interest in having the views of the public be as informed as possible. While we note that the additional NHTSA crash tests have since been completed and docketed during the original 60-day comment period, we acknowledge that insufficient time was allocated for the public to analyze and comment on the results of these tests. We have also recently docketed additional details regarding our preliminary safety benefits estimations. Therefore, we believe that providing additional time for the public to analyze these sources of information, in addition to any additional analyses provided by the Alliance, will result in more helpful comments.

Privacy Act: Anyone is able to search the electronic form of all submissions received into any of our dockets by the name of the individual submitting the comment or petition (or signing the comment or petition, if submitted on behalf of an association, business, labor union, etc.). You may review DOT's complete Privacy Act Statement in the Federal Register published on April 11, 2000 (Volume 65, Number 70; Pages 19477-78) or you may visit http://dms.dot.gov.

Authority: 49 U.S.C. 322, 30111, 30115, 30117, and 30166; delegation of authority at 49 CFR 1.50.

Issued: April 1, 2004.
Stephen R. Kratzke,
Associate Administrator for Rulemaking.

[FR Doc. 04-7795 Filed 4-5-04; 8:45 am]

BILLING CODE 4910-59-P